SOCIAL SECURITY ADMINISTRATION

[Docket No. SSA-2012-0048]

Service Delivery Plan

AGENCY: Social Security Administration (SSA).

ACTION: Notice; request for comments.

SUMMARY: We are requesting public input as we develop our Service Delivery Plan (SDP). We recently completed our Agency Strategic Plan (ASP) for 2013-2016. The ASP identifies four goals: (1) Deliver quality disability decisions and services; (2) provide quality service to the public; (3) preserve the public's trust in our programs; and (4) strengthen our workforce and infrastructure. Consistent with these goals, our SDP will outline how we plan to provide our services over the next four years and beyond.

DATES: To ensure that we consider your comments, we must receive them no later than August 27, 2012.

ADDRESSES: You may submit comments by one of three methods—Internet, fax, or mail. Do not submit the same comments multiple times or by more than one method. Regardless of which of the following methods you choose, please state that your comments refer to Docket No. SSA-2012-0048 so that we associate your comments with the correct document.

Caution: You should be careful to include in your comments only information that you wish to make publicly available. Do not include in your comments any personal information, such as Social Security numbers or medical information.

1. Internet: We strongly recommend that you submit your comments via the Internet. Please visit the Federal eRulemaking portal at http://www.regulations.gov. Use the Search function of the Web page to find docket number SSA-2012-0048. The system will issue you a tracking number to confirm your submission. It may take up to one week for your comment to be viewable.

2. Fax: Fax comments to (410) 966-2830.

3. Mail: Mail your comments to the Office of Regulations, Social Security Administration, 107 Altmeyer Building, 6401 Security Boulevard Baltimore, Maryland 21235-6401.

FOR FURTHER INFORMATION CONTACT: Melissa Spencer, Social Security Administration, 900 Altmeyer Building, 6401 Security Boulevard Baltimore, MD 21235-6401, (410) 965-3830. For information about specific claims or our programs, please visit our Internet site, Social Security Online at http://www.socialsecurity.gov, or call our national toll-free number, 1-800-772-1213 or TTY 1-800-325-0778.

SUPPLEMENTARY INFORMATION: Social Security affects nearly every American and contributes significantly to the Nation's economy. As we develop our plan, we are interested in hearing from you, our customers. We invite you to respond to several focused questions. Your answers to the following questions will help us think carefully about our future services. We will review all comments and consider your thoughts as we develop our plan.

Questions

1. We provide services to the public, such as handling claims for Social Security and Supplemental Security Income, that are clearly central to our core mission. Over time, we have taken on many other services that do not directly support our mission, such as responding to requests for verifying benefit amounts and assisting people with claims for other Federal benefits. Do you have suggestions for new or different ways that we can provide our core and non-core services?

2. Over the last ten years, we have had great success in enhancing and implementing many electronic services for the public, which have improved service while helping us handle increased workloads. We intend to continue to enhance our electronic services. Do you have suggestions for how we should proceed, including what services we should automate first?

3. What other suggestions do you have about how we handle our workloads and interact with our customers?

Please see the information under ADDRESSES earlier in this document for methods to give us your comments. We will not respond to your comments, but we will consider them as we review all responses.

Michael J. Astrue,
Commissioner of Social Security.

[FR Doc. 2012-18269 Filed 7-26-12; 8:45 am]

BILLING CODE 4191-02-P